DEPARTMENT OF THE INTERIOR

Bureau of Land Management

[(LLCAD06000.51010000.ER0000.LVRWB09B2920.18X5017AP) CACA49397; MO#4500121476]

Notice of Availability of the Draft Environmental Impact Statement and Environmental Impact Report and Draft Land Use Plan Amendment to the California Desert Conservation Area Plan for the Desert Quartzite Solar Project

AGENCY: Bureau of Land Management, Interior.

ACTION: Notice of availability.

SUMMARY: In accordance with the National Environmental Policy Act (NEPA) of 1969, as amended, and the Federal Land Policy and Management Act of 1976, as amended, the Bureau of Land Management (BLM) has prepared a draft Environmental Impact Statement (EIS), and, in collaboration with Riverside County, a draft Environmental Impact Report (EIR) for the Desert Quartzite Solar Project (DQSP). A draft Land Use Plan Amendment to the California Desert Conservation Area Plan (CDCA) is also included. This notice announces the opening of the public comment period, following the date the Environmental Protection Agency (EPA) publishes its Notice of Availability (NOA) in the Federal Register.

DATES: To ensure that all comments will be considered, the BLM must receive written comments on the draft plan amendment and draft EIS/EIR by November 8, 2018. The BLM will announce future meetings or hearings and any other public involvement activities at least 15 days in advance through public notices, media releases, the project website, and/or mailings.

ADDRESSES: The public may submit comments related to the project during the public comment period by using any of the following methods:

• Website: https://goo.gl/GmkJk4.

• Email: blm_ca_desert_quartzite_solar_project@blm.gov.

• Mail: Desert Quartzite Solar Project, Bureau of Land Management Palm Springs-South Coast Field Office, 1201 Bird Center Drive, Palm Springs, CA 92234.

Copies of the draft EIS/EIR and draft plan amendment are available at the BLM-Palm Springs-South Coast Field Office at the above address and at the BLM California Desert District Office, 22835 Calle San Juan De Los Lagos, Moreno Valley, CA 92553, and electronically on the project website referenced above.

FOR FURTHER INFORMATION CONTACT: Brandon G. Anderson, BLM project manager, telephone: (760) 833-7140; email: bganderson@blm.gov; address Bureau of Land Management, Palm Springs-South Coast Field Office, 1201 Bird Center Drive, Palm Springs, CA 92262.

Persons who use telecommunication devices for the deaf may call the Federal Relay Service (FRS) at (307) 775-6115 to contact the above individual during normal business hours. The FRS is available 24 hours a day, 7 days a week, to leave a message or questions with the above individual regarding the project. You will receive a reply during normal business hours.

SUPPLEMENTARY INFORMATION: Desert Quartzite LLC, a wholly owned subsidiary of First Solar Development LLC, applied for a right-of-way (ROW) grant for a photovoltaic solar project, application number CACA-049397, with the Bureau of Land Management. The Applicant proposes to construct, operate, maintain, and decommission the DQSP in the southern California inland desert. The Project would generate up to 450 megawatts (MW) using solar photovoltaic (PV) technology.

The ROW grant application was originally filed for 7,245 acres on September 28, 2007, but has since been revised. The total project area under application for BLM and County approval is 5,275 acres, including 5,115 acres of BLM-administered lands for the ROW grant, and 160 acres of private land for the Riverside County Conditional Use Permit. Within this application area, the Applicant has proposed a project that would occupy 3,831 acres. This includes 3,560 acres for the portion of the solar facility on BLM-managed public lands; 54 acres for the proposed 230 kilovolt (kV) generation interconnection [gen-tie] line on BLM public lands, two acres for the offsite portion of a buried telecommunications line on BLM public lands, 56.8 acres of temporary projects, 4.5 acres for the external access road and 154 acres for the portion of the solar facility on private lands. The larger acreage under application would allow the BLM and the County to consider various site layouts as project alternatives in the environmental analyses for the proposed project.

Although the Notice of Intent (NOI) to prepare an Environmental Impact Statement for the Desert Quartzite Solar Project and a possible amendment to the California Desert Conservation Area (CDCA) plan, 80 FR 12195 (March 6, 2015), stated that the Project would be capable of generating 300 MW, advances in photovoltaic solar technology will allow the generation of additional megawatts on the same footprint proposed in the project's Plan of Development.

In addition to the proposed action, the draft EIS/EIR considers a “no action” alternative and two action alternatives. Alternative 2, Resource Avoidance, would authorize a 450-MW PV array on approximately 2,845 acres, and Alternative 3, Reduced Project Alternative, would authorize a 285-MW PV array on approximately 2,112 acres. Like the Proposed Action, under each of these alternatives, the BLM would amend the CDCA plan to allow the project. Under the No Action Alternative, the BLM would deny the ROW application, and would not amend the CDCA plan to allow the project.

The BLM has identified Alternative 2, Resource Avoidance, as the BLM Preferred Alternative for the draft EIS. The BLM and its cooperating agencies are seeking comments on the draft EIS, including the comparison of alternatives presented in the document.

Riverside County is the lead agency for the State under the California Environmental Quality Act (CEQA). The draft plan amendment EIS/EIR was prepared as a joint Federal/State environmental document that analyzes the impacts of the Project under both NEPA and CEQA.

Public input is important and will be considered in the environmental and land-use planning analysis. Please note that public comments and information submitted (including names, street addresses, and email addresses of persons who submit comments) will be available for public review and disclosure at the above address during regular business hours (8:00 a.m. to 4:00 p.m.), Monday through Friday, except holidays.

Before including your address, phone number, email address, or other personally identifiable information in your comment, you should be aware that your entire comment—including your personally identifiable information—may be made publicly available at any time. While you can ask the BLM in your comment to withhold your personally identifiable information from public review, we cannot guarantee that we will be able to do so.

Authority: 40 CFR 1506.6, 40 CFR 1506.10, 43 CFR 1610.2.

Jerome E. Perez,
State Director, California.

[FR Doc. 2018-16959 Filed 8-9-18; 8:45 am]

BILLING CODE 4310-40-P